DEPARTMENT OF HEALTH AND HUMAN SERVICES

Office of the Secretary; Office of Intergovernmental Affairs, Office of Public Health and Science

Statements of Organization, Functions and Delegations of Authority

Part A, (Office of the Secretary), of the Statement of Organization, Functions, and Delegations of Authority for the Department of Health and Human Services, Chapter AA “Office of the Secretary” as last amended at 60 FR 52403, dated October 6, 1995; Chapter ABC “Office of the Deputy Under Secretary for Intergovernmental Affairs” as last amended at 61 FR 24311-12, dated May 14, 1996; and Chapter AC “Office of Public Health and Science” as last amended at 65 FR 37137, dated June 13, 2000 are being amended to reflect the transfer of the Regional Health Administrators (ADA 1-X) from the Office of the Deputy Under Secretary for Intergovernmental Affairs (ABC) to the Office of Public Health and Science. The changes are as follows:

I. Under Chapter ABC, “Office of the Deputy Under Secretary for Intergovernmental Affairs,” make the following changes:

A. Under Paragraph AD.10 Organization, revise as follows:

AD.10 Organization. The Office of the Regional Director is under the direction and control of the Regional Director, who reports directly to the Secretary and Deputy Secretary through the Director for Intergovernmental Affairs, and consists of the Regional Director (AD 1-X).

B. Under Paragraph AD.20 Function, make the following changes:

1. Delete the last sentence under paragraph A.

2. Delete paragraph B. The Regional Health Administrator (ADA (1-X) in its entirety.

II. Under Chapter AC, “Office of Public Health and Science,” make the following changes:

A. Under Paragraph AC.10 Organization, insert the following paragraph, after paragraph L.

M. Office of the Regional Health Administrator (ACD 1-X).

B. Under Paragraph 20. Functions, insert the following paragraph after paragraph (12):

(13) provides oversight and directions to the Regional Health Administrators (1-X).

C. Under Paragraph 20. Functions, insert the following after Paragraph 20, subparagraph L:

M. Regional Health Administrator (ACD1-X)—Reports to the Assistant Secretary for Health. Receives professional guidance from the ASH. Participates in policy development and implementation; directs and coordinates regionally based programs of OPHS, including the offices of Emergency Preparedness, Minority Health, Women's Health and Population Affairs. Develops regional goals and objectives consistent with the needs of the region and in conformity with the national health priorities and objectives and Departmental plans and programs. Serves as the principal official in the assigned area of jurisdiction to provide oversight and coordination for Public Health Service programs. Sustains regular communication with State public health, substance abuse, and mental health agencies as well as other professional and community-based organizations to assist the Assistant Secretary for Health, and PHS Operating Divisions in the formulation, development, analysis and evaluation of PHS OPDIV field programs and cross cutting Departmental initiatives in public health. Develops plans for emergency preparedness and response and directs all Departmental health related activities necessary to ensure continuity of essential functions within the Region in case of an emergency due to enemy action or natural disaster.

Dated: July 20, 2001.
Dennis P. Williams,
Acting Assistant Secretary for Management and Budget.

[FR Doc. 01-19237 Filed 8-1-01; 8:45 am]

BILLING CODE 4150-28-M